FEDERAL COMMUNICATIONS COMMISSION

47 CFR Part 1

[GEN Docket No. 86-285; FCC 11-27]

Amendment of the Schedule of Application Fees Set

AGENCY: Federal Communications Commission.

ACTION: Final rule.

SUMMARY: In this document, the Commission amends its rules to revise its Schedule of Application Fees per Section 8(b)(1) of the Communications Act of 1934. The Commission is required to revise its application fee rates every two years based on changes in the Consumer Price Index. For FY 2011, calculated from October 2007 and October 2009, the Consumer Price Index for all Urban Consumers (“CPI-U”) increased 3.5 percent. The attached Schedule of Application Fees reflects revised fee rates based on a CPI-U rate increase of 3.5 percent.

DATES: Effective June 20, 2011.

FOR FURTHER INFORMATION CONTACT: Roland Helvajian, Office of Managing Director at (202) 418-0444.

SUPPLEMENTARY INFORMATION: 1. By this Order, adopted February 28, 2011 and released March 3, 2011, the Commission makes rule changes to part 1 of the Commission's rules, and amends its Schedule of Application Fees, 47 CFR 1.1102 et seq. to adjust its fees for processing applications and other filings. Section 8(a) of the Communications Act of 1934, as amended (“the Act”), requires the Commission to “assess and collect application fees at such rates as the Commission shall establish or at such modified rates as it shall establish pursuant to” Section 8(b). Section 8 contains the Schedule of Charges for a broad range of application categories as well as procedures for modifying and collecting these charges. The Commission began assessing such application fees in 1987, and, as required by section 8(b), it began reviewing the fees every two years beginning after October 1, 1991 to make adjustments to reflect changes in the Consumer Price Index. As required by section 8(e) of the Act, collected fees are deposited in the general fund of the United States Treasury. As required by the statute and consistent with our prior practice, this Order increases application fees to reflect the net change in the Consumer Price Index for all Urban Consumers (“CPI-U”) of 3.5 percent, calculated from October 2007 to October 2009.¹ The adjustments made to the fee schedule comport with the statutory formula set forth in Section 8(b).

¹ Application fees are calculated based upon the process set forth in 47 CFR 1.1115. The increase in the CPI-U between October 2007 (the month used to calculate the last CPI-U adjustment of the Schedule of Application Fees) and October 2009 is 7l24 index points, or 3.5 percent. However, the actual calculation in fees is based on index points that are averaged over a time period beginning in December 1989. See Bureau of Labor Statistics CPI-U Index, ftp://ftp.bls.gov/pub/special.request/cpi/cpiai.txt (showing CPI-U Index of 208.936 for October 2007 and 216.177 for October 2009).

2. The Commission will send a copy of this Order in a report to be sent to Congress and the Government Accountability Office pursuant to the Congressional Review Act, see 5 U.S.C. 801(a)(1)(A).

3. Accordingly, it is ordered, that, pursuant to sections 1, 4(i), 4(j), and 8 of the Communications Act of 1934, as amended, 47 U.S.C. 151, 154(i), 154(j), and 158, the rule changes specified herein are adopted and the Schedule of Application Fees, 47 CFR 1.1102 et seq., is amended as set forth in the attached Appendices.

4. It is further ordered that the rule changes and amendment to the Schedule of Application Fees made herein shall become effective 30 days after publication in the Federal Register.

List of Subjects in 47 CFR Part 1

Administrative practice and procedure.

Federal Communications Commission.
Marlene H. Dortch,
Secretary.

For the reasons discussed in the preamble, the Federal Communications Commission amends 47 CFR part 1 to read as follows:

PART 1—PRACTICE AND PROCEDURE

1. The authority citation for part 1 continues to read as follows:

Authority: 15 U.S.C. 79 et seq.; 47 U.S.C. 151, 154(i), 154(j), 155, 157, 225, 303(r), and 309, unless otherwise noted.

2. Section 1.1102 is revised to read as follows:

§ 1.1102 Schedule of charges for applications and other filings in the wireless telecommunications services.

Those services designated with an asterisk in the payment type code column have associated regulatory fees that must be paid at the same time the application fee is paid. Please refer to § 1.1152 for the appropriate regulatory fee that must be paid for this service. Remit manual filings and/or payment for these services to the: Federal Communications Commission, Wireless Bureau Applications, P.O. Box 979097, St. Louis, MO 63197-9000.

Service | FCC Form No. | Fee amount | Payment type code
1. Marine Coast:
a. New; Renewal/Modification | 601 & 159 | $120.00 | PBMR *
b. Modification; Public Coast CMRS; Non-Profit | 601 & 159 | 120.00 | PBMM
c. Assignment of Authorization | 603 & 159 | 120.00 | PBMM
d. Transfer of Control | 603 & 159 | 60.00 | PATM
Spectrum Leasing for Public Coast | 608 & 159 | 60.00 | PATM
e. Duplicate License | 601 & 159 | 60.00 | PADM
f. Special Temporary Authority | 601 & 159 | 175.00 | PCMM
g. Renewal Only | 601 & 159 | 120.00 | PBMR *
h. Renewal (Electronic Filing) | 601 & 159 | 120.00 | PBMR *
i. Renewal Only (Non-Profit; CMRS) | 601 & 159 | 120.00 | PBMM
j. Renewal (Electronic Filing) Non-profit, CMRS | 601 & 159 | 120.00 | PBMM
k. Rule Waiver | 601, 603 or 608 & 159 | 180.00 | PDWM
l. Modification for Spectrum Leasing for Public Coast Stations | 608 & 159 | 120.00 | PBMM
m. Designated Entity Licensee Reportable Eligibility Event | 609-T & 159 | 60.00 | PATM
2. Aviation Ground:
a. New; Renewal/Modification | 601 & 159 | 120.00 | PBVR *
b. Modification; Non-Profit | 601 & 159 | 120.00 | PBVM
c. Assignment of Authorization | 603 & 159 | 120.00 | PBVM
d. Transfer of Control | 603 & 159 | 60.00 | PATM
e. Duplicate License | 601 & 159 | 60.00 | PADM
f. Special Temporary Authority | 601 & 159 | 175.00 | PCVM
g. Renewal Only | 601 & 159 | 120.00 | PBVR *
h. Renewal (Electronic Filing) | 601 & 159 | 120.00 | PBVR *
i. Renewal Only Non-Profit | 601 & 159 | 120.00 | PBVM
j. Renewal Non-Profit (Electronic Filing) | 601 & 159 | 120.00 | PBVM
k. Rule Waiver | 601 or 603 & 159 | 180.00 | PDWM
3. Ship:
a. New; Renewal/Modification; Renewal Only | 605 & 159 | 60.00 | PASR *
b. New; Renewal/Modification; Renewal Only (Electronic Filing) | 605 & 159 | 60.00 | PASR *
c. Renewal Only; Non-profit | 605 & 159 | 60.00 | PASM
d. Renewal Only; Non-profit (Electronic Filing) | 605 & 159 | 60.00 | PASM
e. Modification; Non-profit | 605 & 159 | 60.00 | PASM
f. Modification; Non-profit (Electronic Filing) | 605 & 159 | 60.00 | PASM
g. Duplicate License | 605 & 159 | 60.00 | PADM
h. Duplicate License (Electronic Filing) | 605 & 159 | 60.00 | PADM
i. Exemption from Ship Station Requirements | 605 & 159 | 180.00 | PDWM
j. Rule Waiver | 605 & 159 | 180.00 | PDWM
k. Exemption from Ship Station Requirements (Electronic Filing) | 605 & 159 | 180.00 | PDWM
l. Rule Waiver (Electronic Filing) | 605 & 159 | 180.00 | PDWM
4. Aircraft:
a. New; Renewal/Modification | 605 & 159 | 60.00 | PAAR *
b. New; Renewal/Modification (Electronic Filing) | 605 & 159 | 60.00 | PAAR *
c. Modification; Non-Profit | 605 & 159 | 60.00 | PAAM
d. Modification; Non-Profit (Electronic Filing) | 605 & 159 | 60.00 | PAAM
e. Renewal Only | 605 & 159 | 60.00 | PAAR *
f. Renewal (Electronic Filing) | 605 & 159 | 60.00 | PAAR *
g. Renewal Only; Non-Profit | 605 & 159 | 60.00 | PAAM
h. Renewal; Renewal/Modification; Non-Profit (Electronic Filing) | 605 & 159 | 60.00 | PAAM
i. Duplicate License | 605 & 159 | 60.00 | PADM
j. Duplicate License (Electronic Filing) | 605 & 159 | 60.00 | PADM
k. Rule Waiver | 605 & 159 | 180.00 | PDWM
l. Rule Waiver (Electronic Filing) | 605 & 159 | 180.00 | PDWM
5. Private Operational Fixed Microwave and Private DEMS:
a. New; Renewal/Modification | 601 & 159 | 270.00 | PEOR *
b. New; Renewal/Modification (Electronic Filing) | 601 & 159 | 270.00 | PEOR *
c. Modification; Consolidate Call Signs; Non-Profit | 601 & 159 | 270.00 | PEOM
d. Modification; Consolidate Call Signs; Non-Profit (Electronic Filing) | 601 & 159 | 270.00 | PEOM
e. Renewal Only | 601 & 159 | 270.00 | PEOR *
f. Renewal (Electronic Filing) | 601 & 159 | 270.00 | PEOR *
g. Renewal Only Non-Profit | 601 & 159 | 270.00 | PEOM
h. Renewal Non-Profit (Electronic Filing) | 601 & 159 | 270.00 | PEOM
i. Assignment | 603 & 159 | 270.00 | PEOM
j. Assignment (Electronic Filing) | 603 & 159 | 270.00 | PEOM
k. Transfer of Control | 603 & 159 | 60.00 | PATM
Spectrum Leasing | 608 & 159 | 60.00 | PATM
l. Transfer of Control | 603 & 159 | 60.00 | PATM
Spectrum Leasing (Electronic Filing) | 608 & 159 | 60.00 | PATM
m. Duplicate License | 601 & 159 | 60.00 | PADM
n. Duplicate License (Electronic Filing) | 601 & 159 | 60.00 | PADM
o. Special Temporary Authority | 601 & 159 | 60.00 | PAOM
p. Special Temporary Authority (Electronic Filing) | 601 & 159 | 60.00 | PAOM
q. Rule Waiver | 601, 603 | 180.00 | PDWM
| or
| 608 & 159 | 180.00 | PDWM
r. Rule Waiver (Electronic Filing) | 601, 603 | 180.00 | PDWM
| or
| 608 & 159 | 180.00 | PDWM
s. Modification for Spectrum Leasing | 608 & 159 | 270.00 | PEOM
t. Modification for Spectrum Leasing (Electronic Filing) | 608 & 159 | 270.00 | PEOM
u. Designated Entity Licensee Reportable Eligibility Event | 609-T & 159 | 60.00 | PATM
6. Land Mobile PMRS; Intelligent Transportation Service:
a. New or Renewal/Modification (Frequencies below 470 MHz (except 220 MHz)) 902-928 MHz & RS | 601 & 159 | 60.00 | PALR *
b. New; Renewal/Modification (Frequencies below 470 MHz (except 220 MHz)) (Electronic Filing) | 601 & 159 | 60.00 | PALR *
c. New; Renewal/Modification (Frequencies 470 MHz and above and 220 MHz Local) | 601 & 159 | 60.00 | PALS *
d. New; Renewal/Modification (Frequencies 470 MHz and above and 220 MHz Local) (Electronic Filing) | 601 & 159 | 60.00 | PALS *
e. New; Renewal/Modification (220 MHz Nationwide) | 601 & 159 | 60.00 | PALT *
f. New; Renewal/Modification (220 MHz Nationwide) (Electronic Filing) | 601 & 159 | 60.00 | PALT *
g. Modification; Non-Profit; For Profit Special Emergency and Public Safety; and CMRS | 601 & 159 | 60.00 | PALM
h. Modification; Non-Profit; For Profit Special Emergency and Public Safety; and CMRS (Electronic Filing) | 601 & 159 | 60.00 | PALM
i. Renewal Only | 601 & 159 | 60.00 | PALR *
| 601 & 159 | 60.00 | PALS *
| 601 & 159 | 60.00 | PALT *
j. Renewal (Electronic Filing) | 601 & 159 | 60.00 | PALR *
| 601 & 159 | 60.00 | PALS *
| 601 & 159 | 60.00 | PALT *
k. Renewal Only (Non-Profit; CMRS; For-Profit Special Emergency and Public Safety) | 601 & 159 | 60.00 | PALM
l. Renewal (Non-Profit; CMRS; For-Profit Special Emergency and Public Safety) (Electronic Filing) | 601 & 159 | 60.00 | PALM
m. Assignment of Authorization (PMRS & CMRS) | 603 & 159 | 60.00 | PALM
n. Assignment of Authorization (PMRS & CMRS) (Electronic Filing) | 603 & 159 | 60.00 | PALM
o. Transfer of Control (PMRS & CMRS) | 603 & 159 | 60.00 | PATM
Spectrum Leasing | 608 & 159 | 60.00 | PATM
p. Transfer of Control (PMRS & CMRS) | 603 & 159 | 60.00 | PATM
Spectrum Leasing (Electronic Filing) | 608 & 159 | 60.00 | PATM
q. Duplicate License | 601 & 159 | 60.00 | PADM
r. Duplicate License (Electronic Filing) | 601 & 159 | 60.00 | PADM
s. Special Temporary Authority | 601 & 159 | 60.00 | PALM
t. Special Temporary Authority (Electronic Filing) | 601 & 159 | 60.00 | PALM
u. Rule Waiver | 601, 603 | 180.00 | PDWM
| or
| 608 & 159 | 180.00 | PDWM
v. Rule Waiver (Electronic Filing) | 601, 603 | 180.00 | PDWM
| or
| 608 & 159 | 180.00 | PDWM
w. Consolidate Call Signs | 601 & 159 | 60.00 | PALM
x. Consolidate Call Signs (Electronic Filing) | 601 & 159 | 60.00 | PALM
y. Modification for Spectrum Leasing | 608 & 159 | 60.00 | PALM
z. Modification for Spectrum Leasing (Electronic Filing) | 608 & 159 | 60.00 | PALM
aa. Designated Entity Licensee Reportable Eligibility Event | 609-T & 159 | 60.00 | PATM
7. 218-219 MHz (previously IVDS):
a. New; Renewal/Modification | 601 & 159 | 60.00 | PAIR *
b. New; Renewal/Modification (Electronic Filing) | 601 & 159 | 60.00 | PAIR *
c. Modification; Non-Profit | 601 & 159 | 60.00 | PAIM
d. Modification; Non-Profit (Electronic Filing) | 601 & 159 | 60.00 | PAIM
e. Renewal Only | 601 & 159 | 60.00 | PAIR *
f. Renewal (Electronic Filing) | 601 & 159 | 60.00 | PAIR *
g. Assignment of Authorization | 603 & 159 | 60.00 | PAIM
h. Assignment of Authorization (Electronic Filing) | 603 & 159 | 60.00 | PAIM
i. Transfer of Control | 603 & 159 | 60.00 | PATM
Spectrum Leasing | 608 & 159 | 60.00 | PATM
j. Transfer of Control | 603 & 159 | 60.00 | PATM
Spectrum Leasing (Electronic Filing) | 608 & 159 | 60.00 | PATM
k. Duplicate License | 601 & 159 | 60.00 | PADM
l. Duplicate License (Electronic Filing) | 601 & 159 | 60.00 | PADM
m. Special Temporary Authority | 601 & 159 | 60.00 | PAIM
n. Special Temporary Authority (Electronic Filing) | 601 & 159 | 60.00 | PAIM
o. Modification for Spectrum Leasing | 608 & 159 | 60.00 | PAIM
p. Modification for Spectrum Leasing (Electronic Filing) | 608 & 159 | 60.00 | PAIM
q. Designated Entity Licensee Reportable Eligibility Event | 609-T & 159 | 60.00 | PATM
8. General Mobile Radio (GMRS):
a. New; Renewal/Modification | 605 & 159 | 60.00 | PAZR *
b. New; Renewal/Modification (Electronic Filing) | 605 & 159 | 60.00 | PAZR *
c. Modification | 605 & 159 | 60.00 | PAZM
d. Modification (Electronic Filing) | 605 & 159 | 60.00 | PAZM
e. Renewal Only | 605 & 159 | 60.00 | PAZR *
f. Renewal (Electronic Filing) | 605 & 159 | 60.00 | PAZR *
g. Duplicate License | 605 & 159 | 60.00 | PADM
h. Duplicate License (Electronic Filing) | 605 & 159 | 60.00 | PADM
i. Special Temporary Authority | 605 & 159 | 60.00 | PAZM
j. Special Temporary Authority (Electronic Filing) | 605 & 159 | 60.00 | PAZM
k. Rule Waiver | 605 & 159 | 180.00 | PDWM
l. Rule Waiver (Electronic Filing) | 605 & 159 | 180.00 | PDWM
9. Restricted Radiotelephone:
a. New (Lifetime Permit) | 605 & 159 | 60.00 | PARR
New (Limited Use) | 605 & 159 | 60.00 | PARR
b. Duplicate/Replacement Permit | 605 & 159 | 60.00 | PADM
Duplicate/Replacement Permit (Limited Use) | 605 & 159 | 60.00 | PADM
10. Commercial Radio Operator:
a. Renewal Only; Renewal/ Modification | 605 & 159 | 60.00 | PACS
b. Duplicate | 605 & 159 | 60.00 | PADM
11. Hearing | Corres & 159 | 11,590.00 | PFHM
12. Common Carrier Microwave (Pt. To Pt., Local TV Trans. & Millimeter Wave Service):
a. New; Renewal/Modification (Electronic Filing Required) | 601 & 159 | 270.00 | CJPR *
b. Major Modification; Consolidate Call Signs (Electronic Filing Required) | 601 & 159 | 270.00 | CJPM
c. Renewal (Electronic Filing Required) | 601 & 159 | 270.00 | CJPR *
d. Assignment of Authorization; Transfer of Control | 603 & 159 | 95.00 | CCPM
Spectrum Leasing | 608 & 159 | 95.00 | CCPM
Additional Stations (Electronic Filing Required) | 603 or 608 & 159 | 60.00 | CAPM
e. Duplicate License (Electronic Filing Required) | 601 & 159 | 60.00 | PADM
f. Extension of Construction Authority (Electronic Filing Required) | 601 & 159 | 95.00 | CCPM
g. Special Temporary Authority | 601 & 159 | 120.00 | CEPM
h. Special Temporary Authority (Electronic Filing) | 601 & 159 | 120.00 | CEPM
i. Major Modification for Spectrum Leasing (Electronic Filing Required) | 608 & 159 | 270.00 | CJPM
j. Designated Entity Licensee Reportable Eligibility Event | 609-T & 159 | 60.00 | CAPM
13. Common Carrier Microwave (DEMS):
a. New; Renewal/Modification (Electronic Filing Required) | 601 & 159 | 270.00 | CJLR *
b. Major Modification; Consolidate Call Signs (Electronic Filing Required) | 601 & 159 | 270.00 | CJLM
c. Renewal (Electronic Filing Required) | 601 & 159 | 270.00 | CJLR *
d. Assignment of Authorization; Transfer of Control | 603 & 159 | 95.00 | CCLM
Spectrum Leasing | 608 & 159 | 95.00 | CCLM
Additional Stations (Electronic Filing Required) | 603 or 608 & 159 | 60.00 | CALM
e. Duplicate License (Electronic Filing Required) | 601 & 159 | 60.00 | PADM
f. Extension of Construction Authority (Electronic Filing Required) | 601 & 159 | 95.00 | CCLM
g. Special Temporary Authority | 601 & 159 | 120.00 | CELM
h. Special Temporary Authority (Electronic Filing) | 601 & 159 | 120.00 | CELM
i. Major Modification for Spectrum Leasing (Electronic Filing Required) | 608 & 159 | 270.00 | CJLM
j. Designated Entity Licensee Reportable Eligibility Event | 609-T & 159 | 60.00 | CALM
14. Broadcast Auxiliary (Aural and TV Microwave):
a. New; Modification; Renewal/Modification | 601 & 159 | 150.00 | MEA
b. New; Modification; Renewal/Modification (Electronic Filing) | 601 & 159 | 150.00 | MEA
c. Special Temporary Authority | 601 & 159 | 175.00 | MGA
d. Special Temporary Authority (Electronic Filing) | 601 & 159 | 175.00 | MGA
e. Renewal Only | 601 & 159 | 60.00 | MAA
f. Renewal (Electronic Filing) | 601 & 159 | 60.00 | MAA
15. Broadcast Auxiliary (Remote and Low Power):
a. New; Modification; Renewal/Modification | 601 & 159 | 150.00 | MEA
b. New; Modification; Renewal/Modification (Electronic Filing) | 601 & 159 | 150.00 | MEA
c. Renewal Only | 601 & 159 | 60.00 | MAA
d. Renewal (Electronic Filing) | 601 & 159 | 60.00 | MAA
e. Special Temporary Authority | 601 & 159 | 175.00 | MGA
f. Special Temporary Authority (Electronic Filing) | 601 & 159 | 175.00 | MGA
16. Pt 22 Paging & Radiotelephone:
a. New; Major Mod; Additional Facility; Major Amendment; Major Renewal/Mod; Fill in Transmitter (Per Transmitter) (Electronic Filing Required) | 601 & 159 | 395.00 | CMD
b. Minor Mod; Renewal; Minor Renewal/Mod; (Per Call Sign) 900 MHz Nationwide Renewal Net Organ; New Operator (Per Operator/Per City) Notice of Completion of Construction or Extension of Time to Construct (Per Application) (Electronic Filing Required) | 601 & 159 | 60.00 | CAD
c. Auxiliary Test (Per Transmitter); Consolidate Call Signs (Per Call Sign) (Electronic Filing Required) | 601 & 159 | 345.00 | CLD
d. Special Temporary Authority (Per Location/Per Frequency) | 601 & 159 | 345.00 | CLD
e. Special Temporary Authority (Per Location/Per Frequency) (Electronic Filing) | 601 & 159 | 345.00 | CLD
f. Assignment of License or Transfer of Control | 603 & 159 | 395.00 | CMD
Spectrum Leasing (Full or Partial) (Per First Call Sign) | 608 & 159 | 395.00 | CMD
Additional Call Signs (Per Call Signs) (Electronic Filing Required) | 603 or 608 & 159 | 60.00 | CAD
g. Subsidiary Comm. Service (Per Request) (Electronic Filing Required) | 601 & 159 | 175.00 | CFD
h. Major Modification for Spectrum Leasing (Electronic Filing Required) | 608 & 159 | 395.00 | CMD
i. Minor Modification for Spectrum Leasing (Electronic Filing Required) | 608 & 159 | 60.00 | CAD
j. Designated Entity Licensee Reportable Eligibility Event | 609-T & 159 | 60.00 | CAD
17. Cellular:
a. New; Major Mod; Additional Facility; Major Renewal/Mod (Per Call Sign) (Electronic Filing Required) | 601 & 159 | 395.00 | CMC
b. Minor Modification; Minor Renewal/Mod (Per Call Sign) (Electronic Filing Required) | 601 & 159 | 105.00 | CDC
c. Assignment of License; Transfer of Control (Full or Partial) (Per Call Sign) | 603 & 159 | 395.00 | CMC
Spectrum Leasing (Electronic Filing Required) | 608 & 159 | 395.00 | CMC
d. Notice of Extension of Time to Complete Construction; (Per Request) Renewal (Per Call Sign) (Electronic Filing Required) | 601 & 159 | 60.00 | CAC
e. Special Temporary Authority (Per Request) | 601 & 159 | 345.00 | CLC
f. Special Temporary Authority (Per Request) (Electronic Filing) | 601 & 159 | 345.00 | CLC
g. Major Modification for Spectrum Leasing (Electronic Filing Required) | 608 & 159 | 395.00 | CMC
h. Minor Modification for Spectrum Leasing (Electronic Filing Required) | 608 & 159 | 105.00 | CDC
18. Rural Radio:
a. New; Major Renew/Mod; Additional Facility (Per Transmitter) (Electronic Filing Required) | 601 & 159 | 180.00 | CGRR *
b. Major Mod; Major Amendment (Per Transmitter) (Electronic Filing Required) | 601 & 159 | 180.00 | CGRM
c. Minor Modification; (Per Transmitter) (Electronic Filing Required) | 601 & 159 | 60.00 | CARM
d. Assignment of License; Transfer of Control (Full or Partial) (Per Call Sign) | 603 & 159 | 180.00 | CGRM
Spectrum Leasing | 608 & 159 | 180.00 | CGRM
Additional Calls (Per Call Sign) (Electronic Filing Required) | 603 or 608 & 159 | 60.00 | CARM
e. Renewal (Per Call Sign); Minor Renewal/Mod (Per Transmitter) (Electronic Filing Required) | 601 & 159 | 60.00 | CARR *
f. Notice of Completion of Construction or Extension of Time to Construct (Per Application) (Electronic Filing Required) | 601 & 159 | 60.00 | CARM
g. Special Temporary Authority (Per Transmitter) | 601 & 159 | 345.00 | CLRM
h. Special Temporary Authority (Per Transmitter) (Electronic Filing) | 601 & 159 | 345.00 | CLRM
i. Combining Call Signs (Per Call Sign) (Electronic Filing Required) | 601 & 159 | 345.00 | CLRM
j. Auxiliary Test Station (Per Transmitter) (Electronic Filing Required) | 601 & 159 | 345.00 | CLRM
k. Major Modification for Spectrum Leasing (Electronic Filing Required) | 608 & 159 | 180.00 | CGRM
l. Minor Modification for Spectrum Leasing (Electronic Filing Required) | 608 & 159 | 60.00 | CARM
19. Offshore Radio:
a. New; Major Mod; Additional Facility; Major Amendment; Major Renew/Mod; Fill in Transmitters (Per Transmitter) (Electronic Filing Required) | 601 & 159 | 180.00 | CGF
b. Consolidate Call Signs (Per Call Sign); Auxiliary Test (Per Transmitter) (Electronic Filing Required) | 601 & 159 | 345.00 | CLF
c. Minor Modification; Minor Renewal/Modification (Per Transmitter); Notice of Completion of Construction or Extension of Time to Construct (Per Application); Renewal (Per Call Sign) (Electronic Filing Required) | 601 & 159 | 60.00 | CAF
d. Assignment of License; Transfer of Control (Full or Partial) | 603 & 159 | 180.00 | CGF
Spectrum Leasing | 608 & 159 | 180.00 | CGF
Additional Calls (Electronic Filing Required) | 603 or 608 & 159 | 60.00 | CAF
e. Special Temporary Authority (Per Transmitter) | 601 & 159 | 345.00 | CLF
f. Special Temporary Authority (Per Transmitter) (Electronic Filing) | 601 & 159 | 345.00 | CLF
g. Major Modification for Spectrum Leasing (Electronic Filing Required) | 608 & 159 | 180.00 | CGF
h. Minor Modification for Spectrum Leasing (Electronic Filing Required) | 608 & 159 | 60.00 | CAF
20. Broadband Radio Service (Previously Multipoint Distribution Service):
a. New station/Renewal/Modification (Electronic Filing Required) | 601 & 159 | 270.00 | CJM
b. Major Modification of Licenses (Electronic Filing Required) | 601 & 159 | 270.00 | CJM
c. Certification of Completion of Construction (Electronic Filing Required) | 601 & 159 | 785.00 | CPM *
d. License Renewal (Electronic Filing Required) | 601 & 159 | 270.00 | CJM
e. Assignment of Authorization; Transfer of Control (first station) (Electronic Filing Required) | 603 & 159 | 95.00 | CCM
Spectrum Leasing (first station) | 608 & 159 | 95.00 | CCM
Additional Station | 608 & 159 | 60.00 | CAM
f. Extension of Construction Authorization (Electronic Filing Required) | 601 & 159 | 225.00 | CHM
g. Special Temporary Authority or Request for Waiver of Prior Construction Authorization (Electronic Filing) | 601 & 159 | 120.00 | CEM
h. Special Temporary Authority | 601 & 159 | 120.00 | CEM
i. Major Modification for Spectrum Leasing (Electronic Filing Required) | 608 & 159 | 270.00 | CJM
j. Designated Entity Licensee Reportable Eligibility Event | 609-T & 159 | 60.00 | CAM
21. Communications Assistance for Law Enforcement (CALEA) Petitions | Correspondence & 159 | 6,085.00 | CALA

3. Section 1.1103 is revised to read as follows:

§ 1.1103 Schedule of charges for equipment approval, experimental radio services (or service).

Remit manual filings and/or payment for these services to the: Federal Communications Commission, OET Services, P.O. Box 979095, St. Louis, MO 63197-9000.

Service | FCC Form No. | Fee amount | Payment type code
Equipment Approval Service(s):
1. Certification
a. Receivers (except TV and FM) (Electronic Filing Only) | 731 & 159 | $490.00 | EEC
b. Devices Under Parts 11, 15 & 18 (except receivers) (Electronic Filing Only) | 731 & 159 | 1,265.00 | EGC
c. All Other Devices (Electronic Filing Only) | 731 & 159 | 635.00 | EFT
d. Modifications and Class II Permissive Changes (Electronic Filing Only) | 731 & 159 | 60.00 | EAC
e. Request for Confidentiality under Certification (Electronic Filing Only) | 731 & 159 | 180.00 | EBC
f. Class III Permissive Changes (Electronic Filing Only) | 731 & 159 | 635.00 | ECC
2. Advance Approval of Subscription TV Systems | Corres & 159 | 3,870.00 | EIS
a. Request for Confidentiality For Advance Approval of Subscription TV Systems | Corres & 159 | 180.00 | EBS
3. Assignment of Grantee Code:
a. For all Application Types, except Subscription TV (Electronic Filing Only—Optional Electronic Payment) | Electronic Assignment & Form 159 or Optional Electronic Payment | 60.00 | EAG
4. Experimental Radio Service(s):
a. New Station Authorization | 442 & 159 | 60.00 | EAE
b. Modification of Authorization | 442 & 159 | 60.00 | EAE
c. Renewal of Station Authorization | 405 & 159 | 60.00 | EAE
d. Assignment of License or Transfer of Control | 702 & 159 | 60.00 | EAC
| or
| 703 & 159 | 703 & 159 | EAE
e. Special Temporary Authority | Corres & 159 | 60.00 | EAE
f. Additional fee required for any of the above applications that request withholding from public inspection | Corres & 159 | 60.00 | EAE

4. Section 1.1104 is revised to read as follows:

§ 1.1104 Schedule of charges for applications and other filings for media services.

Remit manual filings and/or payment for these services to the: Federal Communications Commission, Media Bureau Services, P.O. Box 979089, St. Louis, MO 63197-9000. The asterisk (*) indicates that multiple stations and multiple fee submissions are acceptable within the same post office box.

Service | FCC Form No. | Fee amount | Payment type code
1. Commercial TV Services:
a. New and Major Change Construction Permits (per application) (Electronic Filing) | 301 & 159 | $4,350.00 | MVT
b. Minor Change (per application) (Electronic Filing) | 301 & 159 | 970.00 | MPT
c. Main Studio Request | Corres & 159 | 970.00 | MPT
d. New License (per application) (Electronic Filing) | 302-TV & 159 302-DTV & 159 | 295.00 295.00 | MJT MJT
e. License Renewal (per application) (Electronic Filing) | 303-S & 159 | 175.00 | MGT
f. License Assignment
(i) Long Form (Electronic Filing) | 314 & 159 | 970.00 | MPT *
(ii) Short Form (Electronic Filing) | 316 & 159 | 140.00 | MDT *
g. Transfer of Control
(i) Long Form (Electronic Filing) | 315 & 159 | 970.00 | MPT *
(ii) Short Form (Electronic Filing) | 316 & 159 | 140.00 | MDT *
h. Call Sign (Electronic Filing) | 380 & 159 | 95.00 | MBT
i. Special Temporary Authority | Corres & 159 | 175.00 | MGT
j. Petition for Rulemaking for New Community of License (Electronic Filing) | 301 & 159 302-TV & 159 | 2,685.00 2,685.00 | MRT MRT
k. Ownership Report (Electronic Filing) | 323 & 159 Corres &159 | 60.00 60.00 | MAT * MAT *
2. Commercial AM Radio Stations:
a. New or Major Change Construction Permit (Electronic Filing) | 301 & 159 | 3,870.00 | MUR
b. Minor Change (per application) (Electronic Filing) | 301 & 159 | 970.00 | MPR
c. Main Studio Request (per request) | Corres & 159 | 970.00 | MPR
d. New License (per application) (Electronic Filing) | 302-AM & 159 | 635.00 | MMR
e. AM Directional Antenna (per application) (Electronic Filing) | 302-AM & 159 | 730.00 | MOR
f. AM Remote Control (per application) (Electronic Filing) | 301 & 159 | 60.00 | MAR
g. License Renewal (per application) (Electronic Filing) | 303-S & 159 | 175.00 | MGR
h. License Assignment
(i) Long Form (Electronic Filing) | 314 & 159 | 970.00 | MPR *
(ii) Short Form (Electronic Filing) | 316 & 159 | 140.00 | MDR *
i. Transfer of Control
(i) Long Form (Electronic Filing) | 315 & 159 | 970.00 | MPR *
(ii) Short Form (Electronic Filing) | 316 & 159 | 140.00 | MDR *
j. Call Sign (Electronic Filing) | 380 & 159 | 95.00 | MBR
k. Special Temporary Authority | Corres & 159 | 175.00 | MGR
l. Ownership Report (Electronic Filing) | 323 & 159 | 60.00 | MAR
| or
| Corres & 159 | 60.00 | MAR
3. Commercial FM Radio Stations:
a. New or Major Change Construction Permit (Electronic Filing) | 301 & 159 | 3,485.00 | MTR
b. Minor Change (Electronic Filing) | 301 & 159 | 970.00 | MPR
c. Main Studio Request (per request) | Corres & 159 | 970.00 | MPR
d. New License (Electronic Filing) | 302-FM & 159 | 200.00 | MHR
e. FM Directional Antenna (Electronic Filing) | 302-FM & 159 | 610.00 | MLR
f. License Renewal (per application) (Electronic Filing) | 303-S & 159 | 175.00 | MGR
g. License Assignment
(i) Long Form (Electronic Filing) | 314 & 159 | 970.00 | MPR *
(ii) Short Form (Electronic Filing) | 316 & 159 | 140.00 | MDR *
h. Transfer of Control
(i) Long Form (Electronic Filing) | 315 & 159 | 970.00 | MPR *
(ii) Short Form (Electronic Filing) | 316 & 159 | 140.00 | MDR *
i. Call Sign (Electronic Filing) | 380 & 159 | 95.00 | MBR
j. Special Temporary Authority | Corres & 159 | 175.00 | MGR
k. Petition for Rulemaking for New Community of License or Higher Class Channel (Electronic Filing) | 301 & 159 | 2,685.00 | MRR
| or
| 302-FM & 159 | 2,685.00 | MRR
l. Ownership Report (Electronic Filing) | 323 & 159 | 60.00 | MAR
| or
| Corres & 159 | 60.00 | MAR
4. FM Translators:
a. New or Major Change Construction Permit (Electronic Filing) | 349 & 159 | 730.00 | MOF
b. New License (Electronic Filing) | 350 & 159 | 150.00 | MEF
c. License Renewal (Electronic Filing) | 303-S & 159 | 60.00 | MAF
d. Special Temporary Authority | Corres & 159 | 175.00 | MGF
e. License Assignment (Electronic Filing) | 345 & 159 314 & 159 316 & 159 | 140.00 140.00 140.00 | MDF * MDF * MDF *
f. Transfer of Control (Electronic Filing) | 345 & 159 315 & 159 316 & 159 | 140.00 140.00 140.00 | MDF * MDF * MDF *
5. TV Translators and LPTV Stations:
a. New or Major Change Construction Permit (per application) (Electronic Filing) | 346 & 159 | 730.00 | MOL
b. New License (per application) (Electronic Filing) | 347 & 159 | 150.00 | MEL
c. License Renewal (Electronic Filing) | 303-S & 159 | 60.00 | MAL *
d. Special Temporary Authority | Corres & 159 | 175.00 | MGL
e. License Assignment (Electronic Filing) | 345 & 159 314 & 159 316 & 159 | 140.00 140.00 140.00 | MDL * MDL * MDL *
f. Transfer of Control (Electronic Filing) | 345 & 159 315 & 159 316 & 159 | 140.00 140.00 140.00 | MDL * MDL * MDL *
g. Call Sign (Electronic Filing) | 380 & 159 | 95.00 | MBT
6. FM Booster Stations:
a. New or Major Change Construction Permit (Electronic Filing) | 349 & 159 | 730.00 | MOF
b. New License (Electronic Filing) | 350 & 159 | 150.00 | MEF
c. Special Temporary Authority | Corres & 159 | 175.00 | MGF
7. TV Booster Stations:
a. New or Major Change (Electronic Filing) | 346 & 159 | 730.00 | MOF
b. New License (Electronic Filing) | 347 & 159 | 150.00 | MEF
c. Special Temporary Authority | Corres & 159 | 175.00 | MGF
8. Class A TV Services:
a. New and Major Change Construction Permits (per application) (Electronic Filing) | 301-CA & 159 | 4,350.00 | MVT
b. New License (per application) (Electronic Filing) | 302-CA & 159 | 295.00 | MJT
c. License Renewal (per application) (Electronic Filing) | 303-S & 159 | 175.00 | MGT
d. Special Temporary Authority | Corres & 159 | 175.00 | MGT
e. License Assignment
(i) Long Form (Electronic Filing) | 314 & 159 | 970.00 | MPT *
(ii) Short Form (Electronic Filing) | 316 & 159 | 140.00 | MDT *
f. Transfer of Control
(i) Long Form (Electronic Filing) | 315 & 159 | 970.00 | MPT *
(ii) Short Form (Electronic Filing) | 316 & 159 | 140.00 | MDT *
g. Main Studio Request | Corres & 159 | 970.00 | MPT
h. Call Sign (Electronic Filing) | 380 & 159 | 95.00 | MBT
9. Cable Television Services:
a. CARS License | 327 & 159 | 270.00 | TIC
b. CARS Modifications | 327 & 159 | 270.00 | TIC
c. CARS License Renewal (Electronic Filing) | 327 & 159 | 270.00 | TIC
d. CARS License Assignment | 327 & 159 | 270.00 | TIC
e. CARS Transfer of Control | 327 & 159 | 270.00 | TIC
f. Special Temporary Authority | Corres & 159 | 175.00 | TGC
g. Cable Special Relief Petition | Corres & 159 | 1,355.00 | TQC
h. Cable Community Registration (Electronic Filing) | 322 & 159 | 60.00 | TAC
i. Aeronautical Frequency Usage Notifications (Electronic Filing) | 321 & 159 | 60.00 | TAC

5. Section 1.1105 is revised to read as follows:

§ 1.1105 Schedule of charges for applications and other filings for the wireline competition services.

Remit manual filings and/or payment for these services to the: Federal Communications Commission, Wireline Competition Bureau Applications, P.O. Box 979091, St. Louis, MO 63197-9000.

Service | FCC Form No. | Fee amount | Payment type code
1. Domestic 214 Applications | Corres & 159 | 1,050.00 | CDT
2. Tariff Filings:
a. Filing Fees (per transmittal or cover letter) | Corres & 159 | 845.00 | CQK
b. Application for Special Permission Filing (request for waiver of any rule in Part 61 of the Commission's Rules) (per request) | Corres & 159 | 845.00 | CQK
c. Waiver of Part 69 Tariff Rules (per request) | Corres & 159 | 845.00 | CQK
3. Accounting:
a. Review of Depreciation Update Study (single state) | Corres & 159 | 35,465.00 | BKA
(i) Each Additional State | Corres & 159 | 1,170.00 | CVA
b. Petition for Waiver (per petition)
(i) Waiver of Part 69 Accounting Rules & Part 32 Accounting Rules Part 43 Reporting Requirements Part 64 Allocation of Costs Rules Part 65 Rate of Return & Rate Base Rules | Corres & 159 | 7,990.00 | BEA
(ii) Part 36 Separation Rules | Corres & 159 | 7,990.00 | BEB

6. Section 1.1106 is revised to read as follows:

§ 1.1106 Schedule of charges for applications and other filings for the enforcement services.

Remit manual filings and/or payment for these services to the: Federal Communications Commission, Enforcement Bureau, P.O. Box 979094, St. Louis, MO 63197-9000 with the exception of Accounting and Audits, which will be invoiced. Carriers should follow invoice instructions when making payment.

Service | FCC Form No. | Fee amount | Payment type code
1. Formal Complaints | Corres & 159 | $210.00 | CIZ
2. Accounting and Audits:
a. Field Audit | Carriers will be invoiced for the amount due | 106,790.00 | BMA
b. Review of Attest Audit | Carriers will be invoiced for the amount due | 58,290.00 | BLA
3. Development and Review of Agreed upon—Procedures Engagement | Corres & 159 | 58,290.00 | BLA
4. Pole Attachment Complaint | Corres & 159 | 260.00 | TPC

7. Section 1.1107 is revised to read as follows:

§ 1.1107 Schedule of charges for applications and other filings for the international services.

Remit manual filings and/or payment for these services to the: Federal Communications Commission, International Bureau Applications, P.O. Box 979093, St. Louis, MO 63197-9000.

Service | FCC Form No. | Fee amount | Payment type code
1. International Fixed Public Radio (Public & Control Stations):
a. Initial Construction Permit (per station) | 407 & 159 | $875.00 | CSN
b. Assignment or Transfer (per Application) | 702 & 159 | 875.00 | CSN
| or
| 704 & 159 | 875.00 | CSN
c. Renewal (per license ) | 405 & 159 | 635.00 | CON
d. Modification (per station) | 403 & 159 | 635.00 | CON
e. Extension of Construction Authorization (per station) | 701 & 159 | 320.00 | CKN
f. Special Temporary Authority or request for Waiver (per request) | Corres & 159 | 320.00 | CKN
2. Section 214 Applications:
a. Overseas Cable Construction | Corres & 159 | 15,645.00 | BIT
b. Cable Landing License
(i) Common Carrier | Corres & 159 | 1,760.00 | CXT
(ii) Non-Common Carrier | Corres & 159 | 17,405.00 | BJT
c. All other International 214 Applications | Corres & 159 | 1,050.00 | CUT
d. Special Temporary Authority (all services) | Corres & 159 | 1,050.00 | CUT
e. Assignments or transfers (all services) | Corres & 159 | 1,050.00 | CUT
3. Fixed Satellite Transmit/Receive Earth Stations:
a. Initial Application (per station) | 312 Main & Schedule B & 159 | 2,615.00 | BAX
b. Modification of License (per station) | 312 Main & Schedule B & 159 | 180.00 | CGX
c. Assignment or Transfer
(i) First station | 312 Main & Schedule A & 159 | 515.00 | CNX
(ii) Each Additional Station | Attachment to 312-Schedule A | 175.00 | CFX
d. Renewal of License (per station ) | 312-R & 159 | 180.00 | CGX
e. Special Temporary Authority (per request) | 312 Main & 159 | 180.00 | CGX
f. Amendment of Pending Application (per station) | 312 Main & Schedule B & 159 | 180.00 | CGX
g. Extension of Construction Permit (modification) (per station) | 312 Main & 159 | 180.00 | CGX
4. Fixed Satellite transmit/receive Earth Stations (2 meters or less operating in the 4/6 GHz frequency band):
a. Lead Application | 312 Main & Schedule B & 159 | 5,795.00 | BDS
b. Routine Application (per station) | 312 Main & Schedule B & 159 | 60.00 | CAS
c. Modification of License (per station) | 312 Main & Schedule B & 159 | 180.00 | CGS
d. Assignment or Transfer
(i) First Station | 312 Main & Schedule A & 159 | 515.00 | CNS
(ii) Each Additional Station | Attachment to 312-Schedule A | 60.00 | CAS
e. Renewal of License (per station) | 312-R & 159 | 180.00 | CGS
f. Special Temporary Authority (per request) | 312 Main & 159 | 180.00 | CGS
g. Amendment of Pending Application (per station) | 312 Main & Schedule A or B & 159 | 180.00 | CGS
h. Extension of Construction Permit (modification) (per station ) | 312 & 159 | 180.00 | CGS
5. Receive Only Earth Stations:
a. Initial Applications for Registration or License (per station) | 312 Main & Schedule B & 159 | 395.00 | CMO
b. Modification of License or Registration (per station) | 312 Main & Schedule B & 159 | 180.00 | CGO
c. Assignment or Transfer
(i) First Station | 312 Main & Schedule A & 159 | 515.00 | CNO
(ii) Each Additional Station | Attachment to 312-Schedule A | 175.00 | CFO
d. Renewal of License (per station) | 312-R & 159 | 180.00 | CGO
e. Amendment of Pending Application (per station) | 312 Main & Schedule A or B & 159 | 180.00 | CGO
f. Extension of Construction Permit (modification) (per station) | 312 Main & 159 | 180.00 | CGO
g. Waivers (per request) | Corres & 159 | 180.00 | CGO
6. Fixed Satellite Very Small Aperture Terminal (VSAT) Systems:
a. Initial Application (per station) | 312 Main & Schedule B & 159 | 9,655.00 | BGV
b. Modification of License (per system) | 312 Main & Schedule B & 159 | 180.00 | CGV
c. Assignment or Transfer of System | 312 Main & Schedule A & 159 | 2,585.00 | CZV
d. Renewal of License (per system) | 312-R & 159 | 180.00 | CGV
e. Special Temporary Authority (per request) | 312 & 159 | 180.00 | CGV
f. Amendment of Pending Application (per system) | 312 Main & Schedule A or B & 159 | 180.00 | CGV
g. Extension of Construction Permit (modification) (per system) | 312 & 159 | 180.00 | CGV
7. Mobile Satellite Earth Stations:
a. Initial Applications of Blanket Authorization | 312 Main & Schedule B & 159 | 9,655.00 | BGB
b. Initial Application for Individual Earth Station | 312 Main & Schedule B & 159 | 2,315.00 | CYB
c. Modification of License (per system) | 312 Main & Schedule B & 159 | 180.00 | CGB
d. Assignment or Transfer (per system) | 312 Main & Schedule A & 159 | 2,585.00 | CZB
e. Renewal of License (per system) | 312-R & 159 | 180.00 | CGB
f. Special Temporary Authority (per request) | 312 & 159 | 180.00 | CGB
g. Amendment of Pending Application (per system) | 312 Main & Schedule B & 159 | 180.00 | CGB
h. Extension of Construction Permit (modification) (per system) | 312 & 159 | 180.00 | CGB
8. Space Stations (Geostationary):
a. Application for Authority to Launch & Operate (per satellite)
(i) Initial Application | 312 Main & Schedule S & 159 | 120,005.00 | BNY
(ii) Replacement Satellite | 312 Main & Schedule S & 159 | 120,005.00 | BNY
b. Assignment or Transfer (per satellite) | 312 Main & Schedule A & 159 | 8,575.00 | BFY
c. Modification (per satellite) | 312 Main & Schedule S (if needed) & 159 | 8,575.00 | BFY
d. Special Temporary Authority (per satellite) | 312 & 159 | 860.00 | CRY
e. Amendment of Pending Application (per satellite) | 312 Main & Schedule S (if needed) & 159 | 1,715.00 | CWY
f. Extension of Launch Authority (per satellite) | 312 Main & Corres & 159 | 860.00 | CRY
9. Space Stations (NGSO):
a. Application for Authority to Launch & Operate (per system of technically identical satellites) satellites) | 312 Main & Schedule S & 159 | 413,295.00 | CLW
b. Assignment or Transfer (per system) | 312 Main & Schedule A & 159 | 11,815.00 | CZW
c. Modification (per system) | 312 Main & Schedule S (if needed) & 159 | 29,525.00 | CGW
d. Special Temporary Authority (per request) | Corres & 159 | 2,960.00 | CXW
e. Amendment of Pending Application (per request) | 312 Main & Schedule S & 159 | 5,910.00 | CAW
f. Extension of Launch Authority (per system) | 312 Main & 159 | 2,960.00 | CXW
10. Direct Broadcast Satellites:
a. Authorization to Construct or Major Modification (per satellite) | 312 Main & Schedule S & 159 | 3,485.00 | MTD
b. Construction Permit and Launch Authority (per satellite) | 312 Main & Schedule S & 159 | 33,790.00 | MXD
c. License to Operate (per satellite) | 312 Main & Schedule S & 159 | 970.00 | MPD
d. Special Temporary Authority (per satellite) | 312 Main & 159 | 175.00 | MGD
11. International Broadcast Stations:
a. New Station & Facilities Change Construction Permit (per application) | 309 & 159 | 2,925.00 | MSN
b. New License (per application) | 310 & 159 | 665.00 | MNN
c. License Renewal (per application) | 311 & 159 | 165.00 | MFN
d. License Assignment or Transfer of Control (per station license) | 314 & 159 | 105.00 | MCN
| or
| 315 & 159 | 105.00 | MCN
| or
| 316 & 159 | 105.00 | MCN
e. Frequency Assignment & Coordination (per frequency hour) | Corres & 159 | 60.00 | MAN
f. Special Temporary Authorization (per application) | Corres & 159 | 175.00 | MGN
12. Permit to Deliver Programs to Foreign Broadcast Stations (per application):
a. Commercial Television Stations | 308 & 159 | 95.00 | MBT
b. Commercial AM or FM Radio Stations | 308 & 159 | 95.00 | MBR
13. Recognized Operating Agency (per application): | Corres & 159 | 1,050.00 | CUG

8. Section 1.1108 is revised to read as follows:

§ 1.1108 Schedule of charges for applications and other filings for the international telecommunication services.

Remit payment (along with a copy of invoice) for these services to the: Federal Communications Commission, International Telecommunication Fees, P.O. Box 979096, St. Louis, MO 63197-9000.

1. Administrative Fee For Collections (per line item) | 99 & 99A | $2.00 | IAT
2. Telecommunication Charges | 99 & 99A |  | ITTS

9. Section 1.1109 is revised to read as follows:

§ 1.1109 Schedule of charges for applications and other filings for the Homeland services.

Remit manual filings and/or payment for these services to the: Federal Communications Commission, Homeland Bureau Applications, P.O. Box 979092, St. Louis, MO 63197-9000.

1. Communication Assistance for Law Enforcement (CALEA) Petitions | Corres & 159 | 6,085.00 | CLEA

[FR Doc. 2011-12263 Filed 5-19-11; 8:45 am]

BILLING CODE 6712-01-P